DEPARTMENT OF THE INTERIOR

Fish and Wildlife Service

50 CFR Part 17

RIN 1018-AG88

Endangered and Threatened Wildlife and Plants; Designation of Critical Habitat for Cirsium loncholepis (La Graciosa thistle), Eriodictyon capitatum (Lompoc yerba santa), and Deinandra increscens ssp. villosa (Gaviota tarplant)

AGENCY: Fish and Wildlife Service, Interior.

ACTION: Proposed rule; reopening of comment period and notice of availability of draft economic analysis.

SUMMARY: We, the U.S. Fish and Wildlife Service, announce the reopening of the comment period for the proposed designation of critical habitat for Cirsium loncholepis (La Graciosa thistle), Eriodictyon capitatum (Lompoc yerba santa), and Deinandra increscens ssp. villosa (Gaviota tarplant), and the availability of the draft economic analysis for the proposed designation of critical habitat. We are reopening the comment period for these species to allow all interested parties to comment simultaneously on the proposed rule and the associated draft economic analysis. Comments previously submitted need not be resubmitted as they will be incorporated into the public record as part of this extended comment period and will be fully considered in the final rule.

DATES: We will accept public comments until June 6, 2002.

ADDRESSES: Written comments and information should be submitted to Field Supervisor, Ventura Fish and Wildlife Office, U.S. Fish and Wildlife Service, 2493 Portola Road, Suite B, Ventura, CA 93003. For the electronic mail address, and further instructions on commenting, refer to Public Comments Solicited section of this notice.

FOR FURTHER INFORMATION CONTACT: For general information, Connie Rutherford or Catrina Martin, Ventura Fish and Wildlife Office, U.S. Fish and Wildlife Service, telephone 805/644-1766; facsimile 805/644-3958.

SUPPLEMENTARY INFORMATION:

Background

Cirsium loncholepis (La Graciosa thistle), Eriodictyon capitatum (Lompoc yerba santa), and Deinandra increscens ssp. villosa [=Hemizonia increscens ssp. villosa] (Gaviota tarplant) occur along the south central California coast. They are restricted to a narrow area in northern and western Santa Barbara County and southern San Luis Obispo County, in declining or altered habitats including central dune scrub, central maritime chaparral, valley needlegrass grassland, coastal freshwater wetlands, and southern bishop pine forest (Holland 1986, Schoenherr 1992).

Cirsium loncholepis is a short-lived, spreading, mound-like or erect and often fleshy, spiny member of the sunflower family (Asteraceae). Plants are from 10 to 100 centimeters (cm) (4 to 39 inches (in)) tall, with purplish flower heads occurring in wide, tight clusters at the tips of the stems. There are approximately 17 known locations for Cirsium loncholepis, all in San Luis and Santa Barbara counties. Ongoing threats to this species include groundwater pumping, oil field development and remediation, and competition from aggressive native and non-native plants.

Eriodictyon capitatum is a shrub in the waterleaf family (Hydrophyllaceae) with narrow, sticky stems up to 3 m (10 ft) tall, and a lavender inflorescence with corollas that are 6 to 15 mm (0.2 to 0.6 in) long. The four known locations of Eriodictyon capitatum occur in western Santa Barbara County. Fire management practices, invasive non-native plant species, low seed productivity, and naturally occurring catastrophic events pose significant threats to the long-term survival of this species.

Deinandra increscens ssp. villosa, a member of the sunflower family, is a yellow-flowered, variable gray-green, soft, hairy annual that is 30 to 90 cm (12 to 35 in) tall. Deinandra increscens ssp. villosa has a highly localized distribution in western Santa Barbara County, and is threatened by destruction of individual plants, habitat loss, and habitat degradation from the development and decommissioning of oil and gas facilities, including pipelines, and competition with non-native weeds.

On June 17,1999, our failure to issue a final rule and to make a critical habitat determination for Cirsium loncholepis, Eriodictyon capitatum, and Deinandra increscens ssp. villosa was challenged in Southwest Center for Biological Diversity and California Native Plant Society v. Babbitt (Case No. C99-2992 (N.D.Cal.). Pursuant to the Endangered Species Act of 1973, as amended (Act) (16 U.S.C. 1531 et seq.), Cirsium loncholepis, Eriodictyon capitatum, and Deinandra increscens ssp. villosa, were listed as endangered species on March 20, 2000 (65 FR 14888). On November 15, 2001, the proposed rule to designate critical habitat for Cirsium loncholepis, Eriodictyon capitatum, and Deinandra increscens ssp. villosa, was published in the Federal Register (66 FR 57560). The original comment period closed on January 14, 2002. We are reopening the comment period for an additional 30 days to allow all interested parties to comment simultaneously on the proposed rule and the associated draft economic analysis.

We have proposed to designate approximately 27,046 hectares (66,830 acres) in San Luis Obispo and Santa Barbara Counties, California, as critical habitat for Cirsium loncholepis, Eriodictyon capitatum, and Deinandra increscens ssp. villosa. Critical habitat receives protection from destruction or adverse modification through required consultation under section 7 of the Act with regard to actions carried out, funded, or authorized by a Federal agency. Section 4(b)(2) of the Act requires that we designate or revise critical habitat based upon the best scientific and commercial data available, after taking into consideration the economic or any other relevant impact of specifying any particular area as critical habitat. Based upon the previously published proposal to designate critical habitat for Cirsium loncholepis, Eriodictyon capitatum, and Deinandra increscens ssp. villosa, we have prepared a draft economic analysis of the proposed critical habitat designation. The draft economic analysis is available on the Internet and from the mailing addresses in the Public Comments Solicited section below.

Public Comments Solicited

We will accept written comments and information during this reopened comment period. If you wish to comment, you may submit your comments and materials concerning this proposal by any of several methods:

(1) You may submit written comments and information to the Field Supervisor, Ventura Fish and Wildlife Office, U.S. Fish and Wildlife Service, 2493 Portola Road, Suite B, Ventura, CA 93003.

(2) You may send comments by electronic mail (e-mail) to: fw1coastaltrio@r1.fws.gov. If you submit comments by e-mail, please submit them as an ASCII file and avoid the use of special characters and any form of encryption. Please also include “Attn: RIN 1018-AG88” and your name and return address in your e-mail message. If you do not receive a confirmation from the system that we have received your e-mail message, contact us directly by calling our Ventura Fish and Wildlife Office at telephone number 805/644-1766.

(3) You may hand-deliver comments to our Ventura Fish and Wildlife Office at the address given above.

Comments and materials received, as well as supporting documentation used in preparation of the proposal to designate critical habitat, will be available for inspection, by appointment, during normal business hours at the address under (1) above. Copies of the draft economic analysis are available on the Internet at “www.r1.fws.gov/news” or by writing to the Field Supervisor at the address under (1) above.

References Cited

A complete list of all references cited herein, as well as others, is available upon request from the Ventura Fish and Wildlife Office (see ADDRESSES section).

Author

The primary author of this notice is Catrina Martin (see ADDRESSES section).

Authority: The authority for this action is the Endangered Species Act of 1973 (16 U.S.C. 1531 et seq.).

Dated: April 24, 2002.
Craig Manson,
Assistant Secretary for Fish and Wildlife and Parks.

[FR Doc. 02-10999 Filed 5-6-02; 8:45 am]

BILLING CODE 4310-55-P